Title 3—

The President

Memorandum of July 15, 2025

Revoking PPD-6 on U.S. Global Development Policy

Memorandum for the Vice President[,] the Secretary of State[,] the Secretary of the Treasury[,] the Secretary of Defense[,] the Attorney General[,] the Secretary of the Interior[,] the Secretary of Agriculture[,] the Secretary of Commerce[,] the Secretary of Labor[,] the Secretary of Health and Human Services[,] the Secretary of Homeland Security[,] the Assistant to the President and Chief of Staff[,] the Director of the Office of Management and Budget[,] the United States Trade Representative[,] the Director of National Intelligence[,] the Acting United States Permanent Representative to the United Nations[,] the Assistant to the President for National Security Affairs[,] the Assistant to the President and Counsel to the President[,] the Assistant to the President and Director of the National Economic Council[,] the Assistant to the President for Science and Technology[,] the Chair of the Council of Economic Advisers[,] the Chairman of the Joint Chiefs of Staff[,] the Administrator of the United States Agency for International Development[,] the Chief Executive Officer, Millennium Challenge Corporation[,] the Chief Executive Officer of the United States International Development Finance Corporation[,] the President of the Export-Import Bank of the United States[,] the Director of the United States Trade and Development Agency[,] the Director of the Peace Corps[, and] the Deputy Assistant to the President and Director of the Office of Legislative Affairs

Presidential Policy Directive-6 (PPD-6), on “U.S. Global Development Policy,” does not accord with my recent executive actions and views on the proper role and scale of U.S. foreign assistance, or the degree to which these efforts should be coordinated with and conducted through certain international organizations.

Therefore, Presidential Policy Directive-6 of September 22, 2010, on “U.S. Global Development Policy,” is hereby revoked, as it is inconsistent with:

—Section 3(c) of Executive Order 14148 on “Initial Rescissions of Harmful Executive Orders and Actions”;

—Executive Order 14150 on “America First Policy Directive to the Secretary of State”;

—Executive Order 14155 on “Withdrawing the United States from the World Health Organization”;

—Executive Order 14162 on “Putting America First in International Environmental Agreements”; and

—Executive Order 14169 on “Reevaluating and Realigning United States Foreign Aid”.

The Secretary of State is authorized and directed to publish this memorandum in the Federal Register.

THE WHITE HOUSE,

Washington, July 15, 2025

[FR Doc. 2025-14587

Filed 7-30-25; 11:15 am]

Billing code 4710-10-P